DEPARTMENT OF COMMERCE

International Trade Administration

[A-570-088]

Certain Steel Racks and Parts Thereof From the People's Republic of China: Amended Final Results of Antidumping Duty Administrative Review, 2020-2021

AGENCY: Enforcement and Compliance, International Trade Administration, Department of Commerce.

SUMMARY: The U.S. Department of Commerce (Commerce) is amending the final results of the administrative review of the antidumping duty order on certain steel racks and parts thereof from the People's Republic of China (China) to correct a ministerial error. The period of review is September 1, 2020, through August 31, 2022.

DATES: Applicable June 23, 2023.

FOR FURTHER INFORMATION CONTACT: Jonathan Hill, AD/CVD Operations, Office IV, Enforcement and Compliance, International Trade Administration, U.S. Department of Commerce, 1401 Constitution Avenue NW, Washington, DC 20230; telephone: (202) 482-3518.

Background

On April 10, 2023, Commerce published in the Federal Register the final results of the 2020-2021 administrative review of the antidumping duty order on certain steel racks and parts thereof from China.¹ On May 24, 2023, the Coalition for Fair Rack Imports (the Coalition), timely alleged that Commerce made a ministerial error in calculating the weighted-average dumping margin for Nanjing Ironstone Storage Equipment Co., Ltd. (Ironstone) in the Final Results.²

¹ See Certain Steel Racks and Parts Thereof from the People's Republic of China: Final Results of Antidumping Duty Administrative Review and Final Determination of No Shipments; 2020-2021, 88 FR 21179 (April 10, 2023) (Final Results) and accompanying Issues and Decision Memorandum.

² See Coalition's Letter, “Resubmission of Ministerial Error Comments on Final Dumping Margin of Nanjing Ironstone Storage Equipment Co., Ltd.,” dated May 24, 2023 (Ministerial Error Allegation). Commerce rejected the ministerial error allegation that the Coalition submitted on May 2, 2023, because one of the allegations in the submission was untimely filed. See Commerce's Letter, “Rejection, in Part, of Untimely Filed Ministerial Error Allegation,” dated May 22, 2023.

Legal Framework

Pursuant to section 751(h) of the Tariff Act of 1930, as amended (the Act), a ministerial error is an error “in addition, subtraction, or other arithmetic function, clerical errors resulting from inaccurate copying, duplication, or the like, and any other type of unintentional error which {Commerce} considers ministerial.” ³ Pursuant to 19 CFR 351.224(e), Commerce will analyze any comments received and, if appropriate, correct any ministerial error by amending the final results of review.

³ See also 19 CFR 351.224(f) (Commerce has adopted the statutory definition of “ministerial error” in its regulations).

Ministerial Error Allegation

After analyzing the Coalition's allegation, we find that Commerce made a ministerial error within the meaning of section 751(h) of the Act in calculating the Chinese movement expenses for Ironstone; we multiplied freight and brokerage and handling expenses rather than adding those expenses.⁴ For details regarding this ministerial error, see Ministerial Error Memorandum. Consistent with 19 CFR 351.24(e), we are correcting this error and, consequently, revising Ironstone's weighted-average dumping margin in the Final Results (i.e., from 3.13 percent to 4.92 percent).⁵ Because the weighted-average dumping margin of the non-individually examined respondent to which we granted a separate rate is based on that of the mandatory respondents, we also have revised the review-specific rate assigned to the non-examined company (i.e., from 10.18 percent to 10.80 percent).⁶

⁴ See Ministerial Error Allegation and Memorandum, “Ministerial Error Allegation,” dated concurrently with this notice (Ministerial Error Memorandum).

⁵ See Memorandum, “Amended Final Results Analysis Memorandum for Nanjing Ironstone Storage Equipment Co, Ltd.,” dated concurrently with this notice.

⁶ See Memorandum, “Calculation of the Dumping Margin for Respondent Not Selected for Individual Examination for the Amended Final Results,” dated concurrently with this notice.

Amended Final Results

Correcting for the ministerial error described above results in the following weighted-average dumping margins for the period September 1, 2020, through August 31, 2021:

Exporter | Weighted-average dumping margin (percent)
Nanjing Ironstone Storage Equipment Co., Ltd | 4.92
Review-Specific Rate Applicable to the Non-Examined Company
Nanjing Kingmore Logistics Equipment Manufacturing Co., Ltd | 10.80

Disclosure

Commerce intends to disclose the calculations performed in connection with these amended final results to parties to the proceeding within five days of the date of publication of this notice in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise covered by these amended final results of review. Commerce intends to issue assessment instructions to CBP for the companies listed in the table above, no earlier than 35 days after the date of publication of these amended final results of review in the Federal Register. If a timely summons is filed at the U.S. Court of International Trade, the assessment instructions will direct CBP not to liquidate relevant entries until the time for parties to file a request for a statutory injunction has expired (i.e., within 90 days of publication).

For Ironstone, we calculated importer-specific per-unit assessment rates for entries of Ironstone's subject merchandise by dividing the total amount of dumping calculated for all reviewed U.S. sales to the importer by the total quantity of those sales. We also calculated estimated ad valorem importer-specific assessment rates to determine whether the per-unit assessment rates are de minimis (i.e., 0.50 percent or less).⁷ Where we calculated an importer-specific estimated ad valorem assessment rate for entries of Ironstone's subject merchandise that is zero or de minimis, we will instruct CBP to liquidate the appropriate entries without regard to antidumping duties.⁸ If sales of subject merchandise exported by Ironstone were not reported in its U.S. sales data, but the merchandise was entered into the United States during the POR under Ironstone's CBP case number, Commerce will instruct CBP to liquidate such entries of subject merchandise at the weighted-average dumping margin for the China-wide entity (i.e., 144.50 percent).⁹

⁷ Id.

⁸ See 19 CFR 351.106(c)(2).

⁹ See Certain Steel Racks and Parts Thereof from the People's Republic of China: Final Affirmative Determination of Sales at Less Than Fair Value, 84 FR 35595 (July 24, 2019); as amended in Certain Steel Racks and Parts Thereof from the People's Republic of China: Amended Final Affirmative Antidumping Duty Determination and Antidumping Duty Order; and Countervailing Duty Order, 84 FR 48584, 48586 (September 16, 2019) (stating the weighted-average dumping margin for the China-wide entity is 144.50 percent).

For Nanjing Kingmore Logistics Equipment Manufacturing Co., Ltd., the company not individually examined in this administrative review that qualified for a separate rate, the assessment rate will be equal to its weighted-average dumping margin in these amended final results of review.

Cash Deposit Requirements

The following cash deposit requirements will be effective for shipments of the subject merchandise entered, or withdrawn from warehouse, for consumption on or after the date of publication of this notice of the amended final results of review in the Federal Register, as provided by section 751(a)(2)(C) of the Act: (1) for the companies listed in the table above, the cash deposit rate will be equal to the weighted-average dumping margin listed for the company in the table; (2) for previously investigated or reviewed China and non-China exporters that are not under review in this segment of the proceeding that have a separate rate, the cash deposit rate will continue to be their existing cash deposit rate from the most recently completed segment of this proceeding; (3) for all China exporters of subject merchandise that do not have a separate rate, their cash deposit rate will be the cash deposit rate previously established for the China-wide entity, which is 144.50 percent; and (4) for all non-China exporters of subject merchandise that do not have a separate rate, the cash deposit rate will be the cash deposit rate applicable to the China exporter that supplied the non-China exporter.¹⁰ These cash deposit requirements, when imposed, shall remain in effect until further notice.

¹⁰ Id.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing this notice in accordance with sections 751(h) and 777(i)(1) of the Act, and 19 CFR 351.224(e).

Dated: June 16, 2023.
Abdelali Elouaradia,
Deputy Assistant Secretary for Enforcement and Compliance.

[FR Doc. 2023-13404 Filed 6-22-23; 8:45 am]

BILLING CODE 3510-DS-P